DEPARTMENT OF ENERGY

Federal Energy Regulatory Commission

Combined Notice of Filings #1

Take notice that the Commission received the following electric corporate filings:

Docket Numbers: EC17-135-000.

Applicants: Shell Energy North America (US), L.P., MP2 Energy LLC, MP2 Energy NE LLC.

Description: Application for Authorization for Disposition of Jurisdictional Facilities under Section 203 of the Federal Power Act and Request for Expedited Action of Shell Energy North America (US), L.P., et al.

Filed Date: 6/30/17.

Accession Number: 20170630-5429.

Comments Due: 5 p.m. ET 7/21/17.

Take notice that the Commission received the following electric rate filings:

Docket Numbers: ER10-1511-007; ER10-2231-006; ER10-1714-009.

Applicants: Louisville Gas and Electric Company, Kentucky Utilities Company, LG&E Energy Marketing, Inc.

Description: Triennial Market Power Update of the PPL Southeast Companies.

Filed Date: 6/30/17.

Accession Number: 20170630-5413.

Comments Due: 5 p.m. ET 8/29/17.

Docket Numbers: ER10-2498-004.

Applicants: South Carolina Electric & Gas Company.

Description: Updated Market Power Analysis for the Southeast Region of South Carolina Electric & Gas Company.

Filed Date: 6/27/17.

Accession Number: 20170703-0001.

Comments Due: 5 p.m. ET 8/28/17.

Docket Numbers: ER15-794-005.

Applicants: Catalyst Paper Operations, Inc.

Description: Triennial Market Power Analysis for the Northeast Region of Catalyst Paper Operations, Inc.

Filed Date: 6/30/17.

Accession Number: 20170630-5357.

Comments Due: 5 p.m. ET 8/29/17.

Docket Numbers: ER17-1723-000.

Applicants: Green Power Solutions of Georgia, LLC.

Description: Report Filing: Supplement to Petition of Green Power Solutions of Georgia LLC to be effective N/A.

Filed Date: 6/30/17.

Accession Number: 20170630-5313.

Comments Due: 5 p.m. ET 7/21/17.

Docket Numbers: ER17-1757-000.

Applicants: Entergy New Orleans, LLC.

Description: Supplement to June 5, 2017 Entergy New Orleans, LLC tariff filing.

Filed Date: 6/29/17.

Accession Number: 20170629-5255.

Comments Due: 5 p.m. ET 7/20/17.

Docket Numbers: ER17-1830-000.

Applicants: CXA Sundevil Holdco, Inc.

Description: Report Filing: Supplement to Petition of CXA Sundevil Holdco, Inc to be effective N/A.

Filed Date: 6/30/17.

Accession Number: 20170630-5354.

Comments Due: 5 p.m. ET 7/21/17.

Docket Numbers: ER17-2043-000.

Applicants: Southwest Power Pool, Inc.

Description: § 205(d) Rate Filing: 3330 City of Nixa, Missouri to be effective 6/1/2017.

Filed Date: 7/3/17.

Accession Number: 20170703-5188.

Comments Due: 5 p.m. ET 7/24/17.

Docket Numbers: ER17-2044-000.

Applicants: Southwest Power Pool, Inc.

Description: § 205(d) Rate Filing: 3215R2 People's Electric Cooperative NITSA NOA to be effective 6/1/2017.

Filed Date: 7/3/17.

Accession Number: 20170703-5189.

Comments Due: 5 p.m. ET 7/24/17.

Take notice that the Commission received the following public utility holding company filings:

Docket Numbers: PH17-17-000.

Applicants: LS Power Development, LLC.

Description: FERC-65B Waiver—Notice of Non-Material Change in Fact.

Filed Date: 6/30/17.

Accession Number: 20170630-5431.

Comments Due: 5 p.m. ET 7/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2017.
Kimberly D. Bose,
Secretary.

[FR Doc. 2017-14481 Filed 7-10-17; 8:45 am]

BILLING CODE 6717-01-P